DEPARTMENT OF THE INTERIOR

National Park Service

Notice of Realty Action Proposed Exchange of Interests in Federally-Owned Land for Privately-Owned Lands Located in Montgomery County, State of Maryland

AGENCY: National Park Service, Interior.

ACTION: Notice of realty action for proposed land exchange.

SUMMARY: The following described interests in federally-owned land which was acquired by the National Park Service has been determined to be suitable for disposal by exchange. The authority for this exchange is section 3 of Public Law 91-664 (84 Stat. 1978), which authorized the donation, purchase with donated or appropriated funds, or exchange of land and interests therein on the Chesapeake and Ohio Canal National Historical Park, and section 5 of Public Law 90-401 (82 Stat. 356), which also authorizes land exchanges.

DATES: Comments on this proposed land exchange will be accepted through August 4, 2003.

ADDRESSES: Detailed information concerning this exchange including precise legal descriptions, Land Protection Plan, environmental and cultural analysis and reports are available at the National Trails Land Resources Program Center, 1314 Edwin Miller Boulevard, PO Box 908, Martinsburg, West Virginia 25402. Comments may also be mailed to this address.

FOR FURTHER INFORMATION CONTACT: Judy L. Brumback, Chief, Acquisition Division, National Park Service, National Trails Resources Program Center, PO Box 908, Martinsburg, WV 25402-0908. Phone (304) 263-4943.

SUPPLEMENTARY INFORMATION: The selected interest in federal land is located within the boundaries of the Chesapeake and Ohio Canal National Historical Park and is not required for inclusion into the park unit area. The land has been surveyed for cultural resources and endangered and threatened species. These reports are available upon request.

The United States of America will acquire a 16.10-acre parcel of land currently owned by Jacob R. Ramsburg, Jr., et al., lying within the boundaries of the Chesapeake and Ohio Canal National Historical Park. Three cabins are located on the tract. Acquisition of this land will allow the Park to consolidate its inholdings and provide for visitor access by foot to the Potomac River and Canal. The land is being acquired in fee simple subject to a reservation of a 17-year term estate for use and occupancy of structures located on the land.

In exchange for the land described in the previous paragraph, the United States will convey a term estate, for seventeen years, for use and occupancy of structures located on the following federally-owned property: Tract 17-116 is an interest in a 21.38-acre tract acquired in fee (formerly Tract 17-101) by the United States of America by deed recorded in Book 4598, Page 621, in the Land Records of Montgomery County, State of Maryland. Twenty-two cabins are located on the tract. Conveyance of the interests in land by the United States of America will be done by Quitclaim Deed.

The land to be acquired by the United States of America is described as follows: Tract 17-100 is a 16.10-acre tract acquired by Jacob R. Ramsburg, Jr., et al., and recorded in Book 5322, Page 501, in Land Records of Montgomery County, State of Maryland. Conveyance of the fee simple title will be done by a Special Warranty Deed as approved by the Solicitor's Office.

The value of the interests and land to be exchanged has been determined by a current fair market value appraisal and the value of land and/or interests to be conveyed is equal.

Interested parties may submit written comments to the address listed in the ADDRESSES paragraph. Adverse comments will be evaluated and this action may be modified or vacated accordingly. In the absence of any action to modify or vacate, this realty action will become the final determination of the Department of the Interior.

Dated: February 25, 2003.
Kevin Brandt,
Acting Superintendent, Chesapeake and Ohio Canal National Historical Park.

[FR Doc. 03-15308 Filed 6-17-03; 8:45 am]

BILLING CODE 4310-6V-M